NATIONAL SCIENCE FOUNDATION

Notice of Permit Applications Received Under the Antarctic Conservation Act of 1978

AGENCY: National Science Foundation.

ACTION: Notice of permit applications received under the Antarctic Conservation Act of 1978.

SUMMARY: The National Science Foundation (NSF) is required to publish a notice of permit applications received to conduct activities regulated under the Antarctic Conservation Act of 1978. NSF has published regulations under the Antarctic Conservation Act. This is the required notice of permit applications received.

DATES: Interested parties are invited to submit written data, comments, or views with respect to this permit application by July 30, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-010

1. Applicant: Diane H. Tuft, 101 Central Park West, New York, NY 10023.

Activity for Which Permit Is Requested

Enter Antarctic Specially Protected Areas. The applicant is a member of the Artists and Writers Program and plans to enter Caughley Beach, Cape Bird (ASPA 116), Cape Royds (ASPA 121), and Cape Crozier (ASPA 124) to photograph and record sounds of wildlife in Antarctica including Adelie and Emperor penguins. The recordings along with that of the wind and other aspects of the environment will allow the applicant to capture the essence of Antarctica through light, sound and movement. The resulting images and sounds will be included in the installation that will be created about Antarctica.

Location

Caughley Beach, Cape Bird (ASPA 116), Cape Royds (ASPA 121), Cape Crozier (ASPA 124), and Cape Bird, Ross Island.

Dates

October 1, 2012 to January 31, 2013.

Nadene G. Kennedy,
Permit Officer, Office of Polar Programs.

[FR Doc. 2012-15885 Filed 6-28-12; 8:45 am]

BILLING CODE 7555-01-P